DEPARTMENT OF AGRICULTURE

Forest Service

36 CFR Part 294

RIN 0596-AC04

Special Areas; Roadless Area Conservation; Applicability to the Tongass National Forest, Alaska

Correction

In the issue of Tuesday, July 15, 2003, make the following correction:

In the Table of Contents, on page IV, in the first column, under the heading “Forest Service”, under the subheading “PROPOSED RULES”, in the fifth line, “Roadless area conservation; Tongass National Park, AK” should read, “Roadless area conservation; Tongass National Forest, AK”.

[FR Doc. C3-17420 Filed 7-16-03; 8:45 am]

BILLING CODE 1505-01-D

FEDERAL RETIREMENT THRIFT INVESTMENT BOARD

Sunshine Act Notice

Correction

In notice document 03-17749 appearing on page 41369 in the issue of Friday, July 11, 2003, make the following correction:

In the third column, in the TIME AND DATE section, add “July 21, 2003 ”.

[FR Doc. C3-17749 Filed 7-16-03; 8:45 am]

BILLING CODE 1505-01-D